DEPARTMENT OF STATE

[Public Notice 4552]

Bureau of Educational and Cultural Affairs Request for Grant Proposal: High School Social Science Curriculum Development and Teacher Education Project for Armenia

SUMMARY: The Office of Global Educational Programs of the Bureau of Educational and Cultural Affairs in the Department of State announces an open competition for an assistance award to support planning, implementing and evaluating a project to improve social studies education at the high school level in Armenia through subject-related curriculum development and teacher training. Public and private non-profit organizations meeting the provisions described in IRS regulation 26 U.S.C. 501(c)(3) may submit proposals to cooperate with the Bureau in the administration of a three-year project to develop social studies curricula together with a related teaching methodology manual for high school teachers, and to pilot-test and disseminate the curricula and the teachers' manual in schools and at teacher training sites in Armenia.

Important Note: This Request for Grant Proposals contains language in the “Shipment and Deadline for Proposals” that is significantly different from that used in the past. Please pay special attention to procedural changes as outlined.

Project Overview

The project is intended to assist Armenian educators to improve high school-level social studies education in their country. The project will train a team of educators from Armenia to develop curricula in a limited range of social studies subjects. The same team will develop a handbook on teaching methodology for high school teachers that will relate to the subject-specific curricular materials. The materials and the teachers' handbook will be tested and disseminated in classrooms and at teacher training sites in Armenia.

The rationale for this project is that by introducing more interactive, student-centered teaching practices tied to relevant social studies in Armenia, educators in that country will be better equipped to prepare high school students to participate as citizens in a democratic society.

As part of the effort to promote cooperative relationships within a democratic society, the project will also prepare teachers to relate effectively with other members of the educational community including administrators, parents, students, and officials responsible for educational oversight.

Project Design

The process for developing, testing, publishing, and disseminating the materials and the handbook should include a carefully designed series of exchange visits and related activities within a three-year period. Proposals should describe a strategy for administering the project effectively and for evaluating the results of project implementation. Proposals should also demonstrate that the project's objectives are feasible within the budget proposed and take into account local conditions that may affect recruitment, implementation, teacher training or pilot testing activities in Armenia.

The project design should be outlined within the general framework of three project phases. (Full details for each project phase are contained in the POGI.)

Phase One: Recruitment of Participants, Selection of Subjects, and Arrangement of Administrative Details

Although some of the activities in Phase I may be initiated and implemented through correspondence or other kinds of distance communication, the U.S. grantee organization should include within Phase I a planning trip of approximately two to four weeks to Yerevan.

(1) Recruitment of participants: Within the first six months of the project, the U.S. grantee organization will communicate with the Public Affairs Section of the U.S. Embassy in Yerevan and with representatives of a local NGO active in the education sector or with other local educators to coordinate the recruitment and selection of approximately six Armenian participants for the curriculum development team. The U.S. applicant should identify in the proposal an NGO or a network of high school and/or social studies educators in Armenia with whom the applicant proposes to work in the recruitment effort. The curriculum development team should include participants with previous training and professional experience with social studies education at the high school level, curriculum development and in-service teacher training.

(2) After the curriculum development team has been selected, the grantee organization should consult with the team members and with other social studies educators in Armenia to assess the high school social studies curricula and related teaching materials that are currently in use as well as the U.S. materials that may be relevant to the needs of high school teachers in Armenia. Based on that analysis, the curriculum development team will select the social studies subjects in which the curricular materials will be developed and the methodologies which the teachers' manual will target.

(3) The grantee organization should consult with the Armenian Ministry of Education regarding the following key features of the project (See POGI for contact information): (a) Approval of paid leave for the Armenian participants during their stays in the U.S. and during subsequent periods of training in Armenia; (b) facilitation of the logistics for the training sessions to be conducted in Armenia through signed agreements with the Ministry of Education or other education authorities; (c) if the project includes activities that will ultimately require government approval, the proposal should include a plan for securing the approval of the Ministry or other relevant educational authorities.

Phase Two: U.S. Workshop

In Phase II of this project, members of the curriculum development team from Armenia will spend approximately 12 weeks in the U.S. attending an intensive curriculum development workshop. The U.S. grantee organization will conduct the workshop at which the team will draft the curricular materials and the teachers' manual in consultation with U.S. specialists with expertise on the targeted subjects and methodologies. The U.S. workshop should include opportunities for the direct observation of U.S. classroom teaching, school administration, and community involvement as appropriate. Consultations with U.S. teachers and professional counterparts, including mentored attendance at professional meetings, may also be appropriate. Proposals should incorporate sufficient time for writing the curricular materials and teachers' manual so that working drafts will have been completed by the time the curriculum development team returns to Armenia.

Phase Three: Pilot-Testing, Teacher Training, Publication, and Dissemination

In Phase III of the project, the grantee organization will implement a program for testing, revising and publishing the curricular materials and teachers' manual drafted in Phase II. Proposals should describe a strategy for collaborating with local high schools, other appropriate educational organizations, and teacher training networks in Armenia to facilitate pilot testing of the curricular materials and the teachers' manual and to train teachers to use these materials in their classrooms. Targeted high schools should include those involved with the Armenia “Connectivity Project” sponsored by the Bureau of Educational and Cultural Affairs. (Information on the Armenia Connectivity Project can be found at http://www.projectharmony.am).

Proposals should demonstrate an ability to coordinate and to monitor Phase III activities. Proposals should describe the composition and size of the teacher and student populations that will benefit from the innovations to be introduced through the curriculum development and teacher training effort. In addition, proposals should describe (or outline a strategy for ascertaining) feasible options for publishing the curricular materials and the teachers' manual for dissemination at high schools throughout Armenia.

Project Duration

Pending the availability of funds, grant activities should begin on or around June 1, 2004 and should last for a three-year period. Grant activities are expected to be completed within the three-year timeframe as additional funds beyond the initial grant award are not anticipated.

Project Evaluation

Proposals should describe and budget for project evaluation. Organizations that are awarded Bureau grants must formally submit periodic reports to the Bureau on the project's activities in relation to its objectives. The formal evaluation reports should include an assessment of the status of high school social studies education in Armenia at the time of program inception with specific reference to project objectives; formative evaluation to allow for mid-course revisions in the implementation strategy; and, at the conclusion of the project, summative evaluation of the degree to which the project's objectives have been achieved. The proposal should discuss how the issues raised throughout the formative evaluation process will be assessed and addressed. The summative evaluation should describe the project's influence on the participating institutions and participants, as well as the educational community in Armenia. The summative evaluation should also include recommendations about how to build upon project achievements without additional Bureau support. The use of external evaluators with appropriate subject, cultural, and regional expertise is encouraged. Copies of evaluation reports must be provided to the Department of State.

The grantee organization will be expected to submit intermediate program and financial reports after each project component is concluded. In addition to the formally scheduled reports, the evaluation strategy should include a mechanism for promptly providing the Bureau with information that will equip the Department of State to summarize and illustrate project activities and achievements as they occur.

Project Administration

Proposals should explain how project activities will be administered both in the U.S. and overseas in ways that will ensure that the project maintains a focus on its objectives while adjusting to changing conditions, assessments, and opportunities.

Budget Guidelines

The Bureau anticipates awarding one grant not to exceed $395,000 to support program and administrative costs required to conduct this project. Additional funds beyond the initial grant award are not anticipated. The Bureau encourages applicants to provide maximum levels of cost sharing and funding from private sources in support of its programs. These contributions may include estimated in-kind contributions. Bureau guidelines require that grants to organizations with less than four years of experience in conducting international exchanges be limited to $60,000. Therefore, organizations with less than four years' experience in conducting international exchanges are ineligible to apply under this competition.

Applicants must submit a comprehensive budget for the entire program. There must be a summary budget as well as breakdowns reflecting both administrative and program budgets. Applicants may provide separate sub-budgets for each program component, phase, location, or activity to provide clarification. The summary and the detailed project and administrative budget should be accompanied by a narrative which explains and justifies the amounts requested.

Allowable costs for the program include the following:

(1) Administrative costs, including salaries and benefits.

(2) Program costs, including general program costs and program costs for individual participants in project activities. Please refer to the POGI for complete budget and formatting guidelines.

Announcement Title and Number: All correspondence with the Bureau concerning this RFGP should reference the above title and number ECA/A/S/U-04-06.

FOR FURTHER INFORMATION CONTACT: The Humphrey Fellowships and Institutional Linkages Branch, Office of Global Educational Programs, U.S. Department of State, 301 4th Street, SW., Washington, DC 20547, telephone: (202) 205-8379; Fax: (202) 401-1433; or jcebra@pd.state.gov, to request a solicitation package. The Solicitation Package contains detailed award criteria, required application forms, specific budget instructions, and standard guidelines for proposal preparation. Please specify Bureau Program Officer Jonathan Cebra on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is Monday, February 9, 2004.

In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. It is each applicant's responsibility to ensure that each package is marked with a legible tracking number and to monitor/confirm delivery via the Internet. Faxed documents will not be accepted at any time.

Applicants must follow all instructions in the Solicitation Package. The original and eight copies of the application should be sent to: U.S. Department of State, SA-44, Bureau of Educational and Cultural Affairs, Ref.: ECA/A/S/U-04-05, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Pub. L. 104-319 provides that “in carrying out programs of educational and cultural exchange in countries whose people do not fully enjoy freedom and democracy,” the Bureau “shall take appropriate steps to provide opportunities for participation in such programs to human rights and democracy leaders of such countries.” Pub. L. 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements.

The Grantee will be responsible for issuing DS-2019 forms to participants in this program. A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. The program office, as well as the Public Affairs Section overseas, where appropriate will review all eligible proposals. Eligible proposals will be forwarded to panels of Bureau officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission and responsiveness to the objectives and guidelines stated in this solicitation. Proposals should demonstrate substantive expertise in curriculum development, social studies education at the high school level, and teacher training.

2. Creativity and feasibility of program plan: A detailed agenda and a relevant work plan should demonstrate substantive undertaking, logistical capacity, and a creative utilization of resources and of relevant professional development opportunities. The agenda and work plan should be consistent with the program overview and project design that are outlined in this solicitation.

3. Ability to achieve project objectives: Objectives should be reasonable, feasible, and flexible. Proposals should clearly demonstrate how the institution will meet the program's objectives and plan. Proposals should demonstrate an understanding of educational issues in Armenia.

4. Support of Diversity: Proposals should demonstrate substantive support of the Bureau's policy on diversity by explaining how issues of diversity are included in program design and implementation. Achievable and relevant features should be cited in both program administration (selection of participants, program venue and program evaluation) and program content (orientation and wrap-up sessions, program meetings, resource materials and follow-up activities). The proposal should demonstrate an understanding of the specific diversity needs in Armenia and should address these needs in terms of the project themes and objectives.

5. Institutional capacity and record: Proposed personnel and institutional resources should be adequate and appropriate to achieve the goals of the project. Proposals should demonstrate an institutional record of successful exchange activities, including responsible fiscal management and full compliance with all reporting requirements for past Bureau grants as determined by the Bureau's grants staff. The Bureau will consider the past performance of prior grant recipients as well as the demonstrated potential of new applicants.

6. Project Evaluation: Proposals should include a plan to evaluate the activity's success, both as the activities unfold and at the end of the program. A draft survey questionnaire or other evaluation technique should be included together with the description of how project outcomes will be compared with project objectives.

7. Follow-on Activities: Proposals should provide a plan for continued follow-on activity (without Bureau support) that ensures that the project activities are not isolated events but are part of a coherent and on-going plan to improve education in Armenia.

8. Cost-effectiveness: The overhead and administrative components of the proposal, including salaries and honoraria, should be reasonable and appropriate and should reflect a commitment to pursuing project objectives. The Bureau views cost sharing as a reflection of institutional commitment to the project. Contributions should not be limited to indirect costs.

Authority

Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Freedom for Russia and Emerging Eurasian Democracies and Open Markets Support Act of 1993 (FREEDOM Support Act). Programs and projects must conform to Bureau requirements and guidelines outlined in the Solicitation Package. Bureau projects and programs are subject to the availability of funds.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: December 3, 2003.
C. Miller Crouch,
Principal Deputy Assistant Secretary, Bureau of Educational and Cultural Affairs, Department of State.

[FR Doc. 03-30615 Filed 12-10-03; 8:45 am]

BILLING CODE 4710-05-P